NUCLEAR REGULATORY COMMISSION

[Docket Nos. 50-250-SLR and 50-251-SLR; ASLBP No. 18-957-01-SLR-BD01]

Establishment of Atomic Safety and Licensing Board; Florida Power & Light Company

Pursuant to delegation by the Commission, see 37 FR 28710 (Dec. 29, 1972), and the Commission's regulations, see, e.g., 10 CFR 2.104, 2.105, 2.300, 2.309, 2.313, 2.318, 2.321, notice is hereby given that an Atomic Safety and Licensing Board (Board) is being established to preside over the following proceeding:

Florida Power & Light Company

(Turkey Point Nuclear Generating Units 3 and 4)

This proceeding involves an application seeking a twenty-year subsequent license renewal of Renewed Facility Operating License Nos. DPR-31 and DPR-41, which currently authorize Florida Power & Light Company to operate the Turkey Point Nuclear Generating Units 3 and 4 until, respectively, July 19, 2032 and April 10, 2033. In response to a notice published in the Federal Register announcing the opportunity to request a hearing, see 83 FR 19304 (May 2, 2018), the following hearing requests have been filed: (1) A request on behalf of Southern Alliance for Clean Energy; and (2) a request on behalf of, collectively, Friends of the Earth, Natural Resources Defense Council, and Miami Waterkeeper.

The Board is comprised of the following Administrative Judges:

E. Roy Hawkens, Chairman, Atomic Safety and Licensing Board Panel, U.S. Nuclear Regulatory Commission, Washington, D.C. 20555-0001.

Dr. Michael F. Kennedy, Atomic Safety and Licensing Board Panel, U.S. Nuclear Regulatory Commission, Washington, D.C. 20555-0001.

Dr. Sue H. Abreu, Atomic Safety and Licensing Board Panel, U.S. Nuclear Regulatory Commission, Washington, D.C. 20555-0001.

All correspondence, documents, and other materials shall be filed in accordance with the NRC E-Filing rule. See 10 CFR 2.302.

Rockville, Maryland.
Dated: August 8, 2018.
Edward R. Hawkens,
Chief Administrative Judge, Atomic Safety and Licensing Board Panel.

[FR Doc. 2018-17373 Filed 8-13-18; 8:45 am]

BILLING CODE 7590-01-P